NATIONAL LABOR RELATIONS BOARD

29 CFR Part 102

RIN 3142-AA17

Representation-Case Procedures: Voter List Contact Information; Absentee Ballots for Employees on Military Leave; Correction

AGENCY: National Labor Relations Board.

ACTION: Notice of proposed rulemaking; correction.

SUMMARY: The National Labor Relations Board (“NLRB” or “Board”) is correcting a notice of proposed rulemaking that appeared in the Federal Register on July 29, 2020. This notice of proposed rulemaking amends the Board's rules and regulations to eliminate the requirement that employers must, as part of the Board's voter list requirement, provide available personal email addresses and available home and personal cellular telephone numbers of all eligible voters. It also proposes an amendment providing for absentee mail ballots for employees who are on military leave.

DATES: July 29, 2020.

FOR FURTHER INFORMATION CONTACT: Roxanne Rothschild, Executive Secretary, National Labor Relations Board, 1015 Half Street SE, Washington, DC 20570-0001, (202) 273-1940 (this is not a toll-free number), 1-866-315-6572 (TTY/TDD).

SUPPLEMENTARY INFORMATION:

Corrections

1. In FR Doc. 2020-15596 appearing on page 45554, in the Supplementary Information section, in the Federal Register of Wednesday, July 29, 2020, please correct footnote 4 in the 2nd column to read:

“The Act permits the Board to delegate its decisional authority in representation cases to NLRB regional directors. See 29 U.S.C. 153(b). The Board did so in 1961. 26 FR 3911 (May 4, 1961). The General Counsel administratively oversees the regional directors. 29 U.S.C. 153(d).”

2. In FR Doc. 2020-15596 appearing on page 45556, in the Supplementary Information section, in the Federal Register of Wednesday, July 29, 2020, please correct footnote 14 in the 1st column to read:

“See generally the responses to the 2017 Request for Information (available at https://www.nlrb.gov/reports-guidance/public-notices/request-information/submissions).

3. In FR Doc. 2020-15596 appearing on page 45562, in the Supplementary Information section, in the Federal Register of Wednesday, July 29, 2020, please correct footnote 55 in the 2nd column to read:

“https://www.navy.mil/Resources/Frequently-Asked-Questions/”

4. In FR Doc. 2020-15596 appearing on page 45564, in the Supplementary Information section, in the Federal Register of Wednesday, July 29, 2020, make the following correction to the FR citation at line 4 of the first column to read: “84 FR 69544”.

Dated: September 21, 2020.
Roxanne L. Rothschild,
Executive Secretary, National Labor Relations Board.

[FR Doc. 2020-21207 Filed 10-8-20; 8:45 am]

BILLING CODE 7545-01-P